FEDERAL LABOR RELATIONS AUTHORITY

Membership of the Federal Labor Relations Authority's Senior Executive Service Performance Review Board

AGENCY: Federal Labor Relations Authority.

ACTION: Notice.

SUMMARY: Notice is hereby given of the members of the Performance Review Board

DATES: September 22, 2010.

FOR FURTHER INFORMATION CONTACT: Sonna Stampone, Executive Director, Federal Labor Relations Authority (FLRA); 1400 K Street, NW.; Washington, DC 20424-0001; (202) 218-7941.

SUPPLEMENTARY INFORMATION: Section 4314(c) of Title 5, U.S.C. (as amended by the Civil Service Reform Act of 1978) requires each agency to establish, in accordance with regulations prescribed by the Office of Personnel Management, one or more Performance Review Boards (PRB). Section 4314(c)(4) requires that notice of appointment of the PRB be published in the Federal Register.

As required by 5 CFR 430.310, the following executives have been appointed to serve on the 2009-2011 PRB for the FLRA, beginning September 2010 through September 2012:

Susan McCluskey, Chief Counsel for the Chairman, Federal Labor Relations Authority;

Sonna Stampone, Executive Director, Federal Labor Relations Authority;

Dennis P. Walsh, Deputy General Counsel, Federal Labor Relations Authority;

James E. Petrucci, Director, Dallas Regional Office, Federal Labor Relations Authority;

H. Joseph Schimansky, Executive Director, Federal Service Impasses Panel, Federal Labor Relations Authority.

Authority: 5 U.S.C. 4134(c)(4).

Dated: September 17, 2010.
Sonna Stampone,
Executive Director.

[FR Doc. 2010-23672 Filed 9-21-10; 8:45 am]

BILLING CODE 6727-01-P